NATIONAL AERONAUTICS AND SPACE ADMINISTRATION

[Notice 02-130]

NASA Advisory Council, Space Science Advisory Committee; Structure and Evolution of the Universe Subcommittee Meeting

AGENCY: National Aeronautics and Space Administration (NASA).

ACTION: Notice of Meeting.

SUMMARY: In accordance with the Federal Advisory Committee Act, Pub. L. 92-463, as amended, the National Aeronautics and Space Administration announces a forthcoming meeting of the NASA Advisory Council (NAC), Space Science Advisory Committee (SScAC), Structure and Evolution of the Universe Subcommittee (SEUS).

DATES: Tuesday, December 3, 2002, 8:30 a.m. to 5:30 p.m., and Wednesday, December 4, 2002, 8:30 a.m. to 5:30 p.m.

ADDRESSES: NASA Headquarters, room 9H40, 300 E Street, SW., Washington, DC 20546.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

Status of Astronomy and Physics Programs

—Status of Explorer Program

—Report on Space Science Strategic Plan

—Report from Astronomy & Physics Working Group

—Report from Space Archives Working Group

—Report from National Astronomy & Astrophysics Advisory Committee

It is imperative that the meeting be held on these dates to accommodate the scheduling priorities of the key participants. Visitors will be requested to sign a visitor's register.

June W. Edwards,
Advisory Committee Management Officer, National Aeronautics and Space Administration.

[FR Doc. 02-28416 Filed 11-7-02; 8:45 am]

BILLING CODE 7510-01-P